DEPARTMENT OF LABOR

Employment and Training Administration

[TA-W-39,366]

Mattel, Inc. Murray Production Facility Murray, KY; Notice of Termination of Investigation

Pursuant to section 221 of the Trade Act of 1974, an investigation was initiated on June 4, 2001, in response to a petition filed on behalf of workers at Mattel, Inc., Murray Production Facility, Murray, Kentucky.

The company official submitting the petition has requested that the petition be withdrawn. Consequently, further investigation in this case would serve no purpose, and the investigation has been terminated.

Signed in Washington, DC this 18th day of July, 2001.
Linda G. Poole,
Certifying Officer, Division of Trade Adjustment Assistance.

[FR Doc. 01-18631 Filed 7-25-01; 8:45 am]

BILLING CODE 4510-30-M